CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled AmeriCorps State and National Information Collection Related to Disaster Relief Efforts, to the Office of Management and Budget (OMB) for review and approval in accordance with the Paperwork Reduction Act of 1995, Pub. L. 104-13, (44 U.S.C. Chapter 35). A copy of this ICR, with applicable supporting documentation, may be obtained by contacting the Corporation for National and Community Service, AmeriCorps, Amy Borgstrom, Associate Director of Policy, (202) 606-6930, or by e-mail at ABorgstrom@cns.gov. Individuals who use a telecommunications device for the deaf (TTY-TDD) may call (202) 606-3472 between 8:30 a.m. and 5 p.m. eastern time, Monday through Friday.

ADDRESSES: Comments may be submitted, identified by the title of the information collection activity, to Office of Information and Regulatory Affairs, Attn: Ms. Rachel Potter, OMB Desk Officer for the Corporation for National and Community Service, by any of the following two methods within 30 days from the date of publication in this Federal Register:

(a) By fax to: (202) 395-6974, Attention: Ms. Rachel Potter, OMB Desk Officer for the Corporation for National and Community Service; and

(b) Electronically by e-mail to: Rachel_F._Potter@omb.eop.gov.

SUPPLEMENTARY INFORMATION: The OMB is particularly interested in comments that:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Current Action

Description: This submission includes one set of instructions for current grantees to submit requests for budget amendment in order to carry out disaster relief efforts. The instructions were approved on the basis of an emergency request submitted on 9/29/2005 and approved 10/5/2005, with OMB Control Number 3045-0113 and expiration date of 03/31/2006.

Type of Review: Renewal.

Agency: Corporation for National and Community Service.

Title: Requests for Budget Amendment Related to Disaster Relief Efforts.

OMB Number: 3045-0113.

Agency Number: None.

Affected Public: States and nonprofit organizations.

Total Respondents: 111 for Budget Amendment Requests.

Frequency: Each grantee is only eligible to use these instructions once. The Corporation plans to continue to engage in disaster relief efforts using these instructions after the date that the emergency approval expires, hence this request for regular clearance.

Average Time per Response: Budget Amendment Request: 1 hour.

Estimated Total Burden Hours: 111 hours for Budget Amendment Requests.

Total Burden Cost (capital/startup): None.

Total Burden Cost (operating/maintenance): None.

Dated: February 14, 2006.
Elizabeth D. Seale,
Interim Director, AmeriCorps State and National, COO, Corporation for National and Community Service.

[FR Doc. E6-2432 Filed 2-21-06; 8:45 am]

BILLING CODE 6050-$$-P